DEPARTMENT OF DEFENSE

Office of the Secretary

[Docket No. DoD-2008-OS-0111]

Submission for OMB Review; Comment Request

ACTION: Notice.

The Department of Defense has submitted to OMB for clearance, the following proposal for collection of information under the provisions of the Paperwork Reduction Act (44 U.S.C. Chapter 35).

DATES: Consideration will be given to all comments received by July 20, 2009.

Title and OMB Number: Department of Defense Education Activity (DoDEA) School Accreditation Parent and Student Surveys; OMB Control Number 0704-TBD.

Type of Request: New.

Number of Respondents: 32.

Responses per Respondent: 1.

Annual Responses: 32.

Average Burden per Response: 45 Minutes.

Annual Burden Hours: 24.

Needs and Uses: The Department of Defense Education Activity (DoDEA) regulation 2010.1 (Accreditation Program) requires accreditation of all DoDEA schools in order to provide the activity, the military community served by the activity, and the public at large with an external review of the quality of the educational program provided to DoDEA students. DoDEA's accreditation process is based on the processes and standards of the North Central Association Commission on Accreditation and School Improvement (NCACASI)/AdvancED. As part of the accreditation process, the interview team uses a worldwide standardized set of questions to gather data from students and parents to assess accreditation standards in the following areas: Vision and Purpose, Governance and Leadership, Teaching and Learning, Documenting and Using Results, Resources and Support Systems, Stakeholder Communications and Relationships, and Commitment to Continuous Improvement.

Affected Public: Individuals or households.

Frequency: Annually.

Respondent's Obligation: Voluntary.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: May 15, 2009.
Patricia L. Toppings,
OSD Federal Register Liaison Officer, Department of Defense.

[FR Doc. E9-14432 Filed 6-18-09; 8:45 am]

BILLING CODE 5001-06-P